DEPARTMENT OF HOMELAND SECURITY

Coast Guard

[USCG 2006-25522]

Exercise of Authority To Require Pilots To Submit Results of Annual Chemical Test for Dangerous Drugs and Extension of Deadline for Pilots To Submit Most Recent Annual Physical Examination

ACTION: Notice.

SUMMARY: By this notice, the Coast Guard is exercising authority currently set forth in Coast Guard regulations to require all first class pilots on vessels greater than 1600 gross registered tons (GRT), and other individuals who “serve as” pilots on certain types of vessels greater than 1600 GRT, to provide the passing results of their annual chemical test for dangerous drugs to the Coast Guard, subject to certain exceptions. In addition, the Coast Guard is extending the deadline for pilots to submit the most recent copy of their annual physical examination.

FOR FURTHER INFORMATION CONTACT: Mr. Stewart A. Walker, National Maritime Center. Phone: 202-493-1022, e-mail: Stewart.A.Walker@uscg.mil

DATES: Unless excepted under 46 CFR 16.220(c), each pilot must do the following: Submit the passing results of his or her most recent annual chemical test for dangerous drugs to the Coast Guard on or before April 11, 2007; submit the passing results of his or her annual chemical test for dangerous drugs to the Coast Guard no later than 30 calendar days after receiving the results of the test; and undergo a chemical test for dangerous drugs annually within 30 calendar days of the anniversary date of the individual's most recent chemical test for dangerous drugs.

In addition, the Coast Guard is extending the deadline for pilots to submit a copy of their most recent physical examinations until April 11, 2007. This information was initially requested to be submitted to the Coast Guard no later than December 27, 2006 in a Federal Register notice published on September 28, 2006 at 71 FR 56999.

SUPPLEMENTARY INFORMATION: On September 28, 2006, the Coast Guard provided notice that it is exercising its authority to require first class pilots on vessels greater than 1600 GRT, and those individuals who “serve as” pilots in accordance with 46 CFR 15.812(b)(3) & (c) on vessels greater than 1600 GRT, to submit copies of their annual physical examinations to the Coast Guard. 71 Fed. Reg. 56999. Copies of that notice, as well as this notice are available electronically by searching for docket number USCG-2006-25522 at http://dms.dot.gov. The purpose of the physical examination notice was to implement the recommendation made by the National Transportation Safety Board (NTSB), in their report on the 2003 allision of the Staten Island Ferry ANDREW J. BARBERI, that the Coast Guard require submission of annual pilot physicals. This notice is a continuation of the Coast Guard's efforts to fully implement the NTSB's recommendation.

Coast Guard regulations require that, unless excepted under 46 CFR 16.220(c), each pilot who is required to complete an annual physical examination must also pass a chemical test for dangerous drugs, and that he or she must submit the passing (i.e. negative) results of the chemical test to the Coast Guard when applying for license renewal, or when requested by the Coast Guard. 46 CFR 16.220(b). This includes first class pilots on vessels greater than 1600 GRT, and those individuals who “serve as” pilots in accordance with 46 CFR 15.812(b)(3) & (c) on vessels greater than 1600 GRT. Individuals who “serve as” pilots on vessels of not more than 1600 GRT are not required to complete an annual physical or pass an annual chemical test for dangerous drugs. Positive results of any Coast Guard required chemical test must be reported to the Coast Guard under other existing regulatory authority in 46 CFR part 16.

In accordance with 46 CFR 16.220(c), individuals are excepted from the chemical test requirements if they provide satisfactory evidence that they have: (1) Passed a chemical test for dangerous drugs required by 46 CFR part 16 within the previous six months with no subsequent positive chemical tests during the remainder of the six-month period; or (2) during the previous 185 days been subject to a random testing program required by 46 CFR 16.230 for at least 60 days and did not fail or refuse to participate in a chemical test for dangerous drugs required pursuant to 46 CFR part 16.

This notice serves as the request, pursuant to the authority set forth in 46 CFR 16.220(b), that all first class pilots on vessels greater than 1600 GRT, and all other individuals who “serve as” pilots in accordance with 46 CFR 15.812(b)(3) & (c) on vessels greater than 1600 GRT, provide the passing results of their annual chemical tests for dangerous drugs to the Coast Guard, unless they provide satisfactory evidence that they have met the exceptions stated in 46 CFR 16.220(c). This information should be submitted to the Regional Examination Center (REC) which issued the mariner's license.

The Coast Guard may initiate appropriate administrative action, up to and including suspension or revocation of the mariner's credential in accordance with 46 CFR part 5, if any licensed pilot serves as a first class pilot on vessels greater than 1600 GRT, or any other individual who “serves as” a pilot in accordance with 46 CFR 15.812(b)(3) & (c) on vessels greater than 1600 GRT, fails to submit the results of his or her annual chemical test for dangerous drugs or satisfactory evidence that he or she has met the exceptions in 46 CFR 16.220(c).

Individuals with pilot licenses, pilot endorsements, master licenses and mate licenses (and individuals applying for those credentials) who do not serve as first class pilots on vessels greater than 1600 GRT, and do not otherwise “serve as” pilots in accordance with 46 CFR 15.812(b)(3) & (c) on vessels greater than 1600 GRT, do not need to submit the passing results of an annual chemical test for dangerous drugs pursuant to 46 CFR 16.220(b); however, they must do so before serving as first class pilots on vessels greater than 1600 GRT, or before otherwise “serving as” pilots in accordance with 46 CFR 15.812(b)(3) & (c) on vessels greater than 1600 GRT.

In addition, in response to the notice published September 28, 2006 referenced above, the Coast Guard received a number of requests to extend the initial deadline of December 27, 2006 for pilots to submit a copy of their most recent physical examination in order to provide more time for compliance. The Coast Guard agrees and is extending the deadline to April 11, 2007.

Dated: December 5, 2006.
L.W. Thomas,
Acting Director of National and International Standards, Assistant Commandant for Prevention.

[FR Doc. E6-21017 Filed 12-11-06; 8:45 am]

BILLING CODE 4910-15-P